DEPARTMENT OF HOMELAND SECURITY

Coast Guard

[USCG-2011-0157]

Cooperative Research and Development Agreement: Butanol Fuel Blend Usage With Marine Outboard Engines

AGENCY: Coast Guard, DHS.

ACTION: Notice of intent; request for public comments.

SUMMARY: The Coast Guard is announcing its intent to enter into a Cooperative Research and Development Agreement (CRADA) to identify and investigate the use of butanol fuel blends within marine outboard engines, with the overarching goal of reducing the engines' Greenhouse Gas (GHG) emissions. While the Coast Guard is currently considering partnering with Honda R&D Americas, Inc, we are soliciting public comment on the nature of and participation of other parties in the proposed CRADA. In addition, the Coast Guard also invites other potential participants to submit proposals for consideration in similar CRADAs.

DATES: Comments and related material on the proposed CRADA must reach the Docket Management Facility on or before June 3, 2011. Synopses of proposals regarding future, similar CRADAs must reach the Docket Management Facility on or before October 31, 2011.

ADDRESSES: You may submit comments identified by docket number USCG-2011-0157 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

Do not submit detailed proposals for future CRADAs to the Docket Management Facility. Potential, non-Federal CRADA participants should submit these documents to James W. Gynther, U.S. Coast Guard Research and Development Center, 1 Chelsea Street, New London, CT 06320 (e-mail: James.W.Gynther@uscg.mil).

FOR FURTHER INFORMATION CONTACT: If you have questions on this notice, contact James W. Gynther, U.S. Coast Guard Research and Development Center, 1 Chelsea Street, New London, CT 06320, telephone 860-271-2858, e-mail: James.W.Gynther@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted without change to http://www.regulations.gov and will include any personal information you have provided.

Submitting Comments

If you submit a comment, please include the docket number for this rulemaking (USCG-2011-0157), indicate the specific section of this document to which each comment applies, and provide a reason for each suggestion or recommendation. You may submit your comments and material online (via http://www.regulations.gov) or by fax, mail, or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an e-mail address, or a telephone number in the body of your document so that we can contact you if we have questions regarding your submission.

To submit your comment online, go to http://www.regulations.gov and type “USCG-2011-0157” in the “Keyword” box. If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2011-0157” and click “Search.” Click the “Open Docket Folder” in the “Actions” column. You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Cooperative Research and Development Agreements

Cooperative Research and Development Agreements (CRADAs), are authorized by the Federal Technology Transfer Act of 1986 (Pub. L. 99-502, codified at 15 U.S.C. 3710(a)). A CRADA promotes the transfer of technology to the private sector for commercial use as well as specified research or development efforts that are consistent with the mission of the Federal parties to the CRADA. The Federal party or parties agree with one or more non-Federal parties to share research resources, but the Federal party does not contribute funding. The Department of Homeland Security (DHS), as an executive agency under 5 U.S.C. 105, is a Federal agency for purposes of 15 U.S.C. 3710(a) and may enter into a CRADA. DHS delegated its authority to the Commandant of the Coast Guard (see DHS Delegation No. 0160.1, para. 2.B(34)) and the Commandant has delegated his authority to the Coast Guard's Research and Development Center (R&DC).

CRADAs are not procurement contracts. Care is taken to ensure that CRADAs are not used to circumvent the contracting process. CRADAs have a specific purpose and should not be confused with other types of agreements such as procurement contracts, grants, and cooperative agreements.

Goal of Proposed CRADA

Under the proposed CRADA, the Coast Guard's R&DC would collaborate with non-Federal participants. Together, the R&DC and the non-Federal participants would identify and investigate the advantages, disadvantages, required technology enhancements, performance, costs, and other issues associated with using butanol fuel blends with marine outboard engines, with the overarching goal of reducing their Greenhouse Gas (GHG) emissions (i.e. lower carbon footprints).

The R&DC, with the non-Federal participants, will create and employ a structured and collaborative test protocol to better understand the potential of butanol fuel blends within marine outboard engines. The non-Federal participants will investigate the use of at least one mutually agreed upon butanol fuel blend in representative outboard engines, via a sequential process that involves first fuel-materials compatibility analysis, then bench-testing, followed by controlled field tests, and finally longer-duration operational testing on actual Coast Guard vessels.

Party Contributions

We anticipate that the Coast Guard's contributions under the proposed CRADA will include the following:

(1) Obtain, transport, and provide temporary storage for the mutually-selected butanol fuel blend required for the work to be accomplished under the CRADA;

(2) Lead the development of the test objectives and test plan for the specific work to be accomplished under the CRADA;

(3) Provide all required resources, and conduct the “field testing” analysis of the mutually-agreeable representative outboard engines using the specified butanol fuel blend, in accordance with CRADA test plan;

(4) Provide all required resources, and conduct the “operational testing” analysis of the mutually-agreeable representative outboard engines using the specified butanol fuel blend, in accordance with the CRADA test plan; and

(5) Develop the CRADA Final Report, which documents the methodologies, findings, conclusions, and recommendations of this CRADA work.

We anticipate that the non-Federal participants' contributions under the proposed CRADA will include the following:

(1) Provide input into the Coast Guard selection of the butanol fuel blend to be used during this CRADA investigation;

(2) Provide input into the Coast Guard-developed, CRADA test objectives and CRADA test plan;

(3) Provide all required resources, and conduct the “materials-compatibility testing” analysis of the mutually-agreeable representative outboard engines using the specified butanol fuel blend, in accordance with the CRADA test plan;

(4) Provide all required resources, and conduct the “bench-testing” analysis of the mutually-agreeable representative outboard engines using the specified butanol fuel blend, in accordance with the CRADA test plan;

(5) Provide outboard engine operation and performance monitoring support to the Coast Guard during the “field testing” analysis;

(6)Provide butanol fuel-specific training, along with mutually agreed upon technical support, to those Coast Guard personnel who will be maintaining the CRADA outboard engines during the operational testing, which is anticipated to be one year in duration; and

(7) Provide input into the Coast Guard-developed, CRADA Final Report.

Selection Criteria

The Coast Guard reserves the right to select for CRADA participants all, some, or none of the proposals in response to this notice. The Coast Guard will provide no funding for reimbursement of proposal development costs. Proposals (or any other material) submitted in response to this notice will not be returned. Proposals submitted are expected to be unclassified and have no more than four single-sided pages (excluding cover page and resumes). The Coast Guard will select proposals at its sole discretion on the basis of:

(1) How well they communicate an understanding of, and ability to meet, the proposed CRADA's goal; and

(2) How well they address the following criteria:

(a) Technical capability to support the non-Federal party contributions described; and

(b) Resources available for supporting the non-Federal party contributions described.

Currently, the Coast Guard is considering Honda R&D Americas, Inc., for participation in this CRADA. This is based on the fact that many Coast Guard vessels presently have Honda outboard engines, which are the subject of this alternative fuel investigation. However, we do not wish to exclude other outboard engine manufacturers or other viable participants from this or future similar CRADAs.

This is a technology transfer/development effort. Presently, the Coast Guard has no plan to procure outboard engines, which operate on butanol fuel blends. Since the goal of this CRADA is to identify and investigate the advantages, disadvantageous, required technology enhancements, performance, costs, and other issues associated with using butanol fuel blends within marine outboard engines, with the overarching goal of reducing their Greenhouse Gas (GHG) emissions (i.e. lower carbon footprints), and not to set future CG acquisition requirements for same, non-Federal CRADA partners will not be excluded from any future Coast Guard procurements based solely on their participation within this CRADA.

Special consideration will be given to small business firms/consortia, and preference will be given to business units located in the U.S.

Authority

This notice is issued under the authority of 15 U.S.C. 3710(a) and 5 U.S.C. 552(a).

Dated: April 19, 2011.
Matthew J. Sisson,
Commanding Officer, Research and Development Center.

[FR Doc. 2011-10801 Filed 5-3-11; 8:45 am]

BILLING CODE 9110-04-P